DEPARTMENT OF TRANSPORTATION

Federal Highway Administration

Environmental Impact Statement: Sherburne County, MN

AGENCY: Federal Highway Administration (FHWA), DOT.

ACTION: Notice of Intent to Terminate Tier I EIS.

SUMMARY: The FHWA is issuing this notice to advise the public that the Tier I Environmental Impact Statement (EIS) process for proposed highway improvements to Trunk Highway (TH) 10 in Sherburne County, Minnesota is terminated. The original Notice of Intent for this Tier I EIS process was published in the Federal Register on July 28, 2003.

FOR FURTHER INFORMATION CONTACT: Cheryl Martin, Environmental Engineer, Federal Highway Administration, Galtier Plaza, Suite 500, 380 Jackson Street, St. Paul, Minnesota 55101, Telephone (651) 291-6120; or Claudia Dumont, Project Manager, Minnesota Department of Transportation—District 3, 3725 12th Street North, St. Cloud, Minnesota 56303, Telephone (320) 223-6530; (651) 296-9930 TTY.

SUPPLEMENTARY INFORMATION: The FHWA, in cooperation with the Minnesota Department of Transportation (Mn/DOT) has terminated the Tier I EIS process begun in 2003 to address future transportation demand, safety problems, access management and interregional corridor status on TH 10 from 1.0 mile east of Big Lake to 0.75 mile west of Big Lake, Sherburne County, Minnesota. The purpose of the Tier I EIS was to preserve right of way for the proposed highway improvement. The Scoping Decision Document for the project was approved by Mn/DOT on April 23, 2004. On June 18, 2008, Mn/DOT notified federal, state and local agencies; tribal governments; interested parties; and the public that work on the Tier I EIS was being discontinued due to a lack of identified funding for any of the build alternatives. Mn/DOT will proceed with implementing more affordable and timely safety improvements on existing TH 10. Therefore, the Tier I EIS for this project has been terminated.

(Catalog of Federal Domestic Assistance Program Number 20.205, Highway Planning and Construction. The regulations implementing Executive Order 12372 regarding intergovernmental consultation on Federal programs and activities apply to this program.)

Issued on: October 3, 2008.
Cheryl B. Martin,
Environmental Engineer, Federal Highway Administration, St. Paul, Minnesota.

[FR Doc. E8-23988 Filed 10-9-08; 8:45 am]

BILLING CODE 4910-22-M